ENVIRONMENTAL PROTECTION AGENCY

[FRL-9229-6]

Meeting of the National Drinking Water Advisory Council—Notice of Public Meeting

AGENCY: Environmental Protection Agency.

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The primary focus of the meeting will be for the Council to discuss the Climate Ready Water Utility Work Group Report. The Council will be evaluating the report and determining what recommendations the Council will transmit to the Administrator. The Council will also discuss several other activities including, the Agency's drinking water strategy, the Underground Injection Control (UIC) Program, and revisions to the 1989 Total Coliform Rule (RTCR).

DATES: The Council meeting will be held on December 8, 2010, from 8:30 a.m. to 5 p.m., and December 9, 2010, from 8:30 a.m. to 5 p.m., Eastern time.

ADDRESSES: The meeting will be held at the Phoenix Park Hotel, 520 North Capitol Street, NW., Washington, DC 20001.

FOR FURTHER INFORMATION CONTACT: Members of the public who would like to attend the meeting, present an oral statement, or submit a written statement, should contact Suzanne Kelly, by e-mail at: kelly.suzanne@epa.gov, by phone, 202-564-3887, or by regular mail at the U.S. Environmental Protection Agency, Office of Ground Water and Drinking Water (MC 4606M), 1200 Pennsylvania Avenue, NW., Washington, DC 20460.

SUPPLEMENTARY INFORMATION: The meeting is open to the public. The Council encourages the public's input and will allocate one hour (11 a.m.-12 p.m.) on December 9, 2010, for this purpose. Oral statements will be limited to five minutes. It is preferred that only one person present the statement on behalf of a group or organization. To ensure adequate time for public involvement, individuals or organizations interested in presenting an oral statement should notify Suzanne Kelly by telephone at 202-564-3887 no later than November 30, 2010. Any person who wishes to file a written statement can do so before or after a Council meeting. Written statements received by November 30, 2010 will be distributed to all members of the Council before any final discussion or vote is completed. Any statements received December 1, 2010, or after the meeting will become part of the permanent meeting file and will be forwarded to the Council members for their information.

Special Accommodations

For information on access or services for individuals with disabilities, please contact Suzanne Kelly by telephone at 202-564-3887 or by e-mail at kelly.suzanne@epa.gov. To request accommodation of a disability, please contact Suzanne Kelly, preferably, at least 10 days prior to the meeting to give EPA as much time as possible to process your request.

Dated: November 15, 2010.
Eric G. Burneson,
Acting Director, Office of Ground Water and Drinking Water.

[FR Doc. 2010-29239 Filed 11-18-10; 8:45 am]

BILLING CODE 6560-50-P